DEPARTMENT OF COMMERCE

Bureau of Industry and Security

Modification of June 27, 2017 Renewal of Temporary Denial Order

Mahan Airways, Mahan Tower, No. 21, Azadegan St., M.A. Jenah Exp. Way, Tehran, Iran

Pejman Mahmood Kosarayanifard, a/k/a Kosarian Fard, P.O. Box 52404, Dubai, United Arab Emirates;

Mahmoud Amini, G#22 Dubai Airport Free Zone, P.O. Box 393754, Dubai, United Arab Emirates; and

P.O. Box 52404, Dubai, United Arab Emirates; and

Mohamed Abdulla Alqaz Building, Al Maktoum Street, Al Rigga, Dubai, United Arab Emirates;

Kerman Aviation, a/k/a GIE Kerman Aviation, 42 Avenue Montaigne 75008, Paris, France

Sirjanco Trading LLC, P.O. Box 8709, Dubai, United Arab Emirates

Mahan Air General Trading LLC, 19th Floor Al Moosa Tower One, Sheik Zayed Road, Dubai 40594, United Arab Emirates

Mehdi Bahrami, Mahan Airways-Istanbul Office, Cumhuriye Cad. Sibil Apt No: 101 D:6, 34374 Emadad, Sisli Istanbul, Turkey

Al Naser Airlines, a/k/a al-Naser Airlines, a/k/a Alnaser Airlines and, Air Freight Ltd., Home 46, Al-Karrada, Babil Region, District 929, St 21, Beside Al Jadirya Private Hospital, Baghdad, Iraq; and

Al Amirat Street, Section 309, St. 3/H.20, Al Mansour, Baghdad, Iraq; and

P.O. Box 28360, Dubai, United Arab Emirates; and

P.O. Box 911399, Amman 11191, Jordan

Ali Abdullah Alhay, a/k/a Ali Alhay, a/k/a Ali Abdullah Ahmed Alhay, Home 46, Al-Karrada, Babil Region, District 929, St 21, Beside Al Jadirya Private Hospital, Baghdad, Iraq; and

Anak Street, Qatif, Saudi Arabia 61177, Bahar Safwa General Trading, P.O. Box 113212, Citadel Tower, Floor-5, Office #504, Business Bay, Dubai, United Arab Emirates; and

P.O. Box 8709, Citadel Tower, Business Bay, Dubai, United Arab Emirates, Sky Blue Bird Group, a/k/a Sky Blue Bird Aviation, a/k/a Sky Blue Bird Ltd, a/k/a Sky Blue Bird FZC, P.O. Box 16111, Ras Al Khaimah Trade Zone, United Arab Emirates; and

Issam Shammout, a/k/a Muhammad Isam Muhammad Anwar Nur Shammout, a/k/a Issam Anwar, Philips Building, 4th Floor, Al Fardous Street, Damascus, Syria; and

Al Kolaa, Beirut, Lebanon 151515; and

17-18 Margaret Street, 4th Floor, London, W1W 8RP, United Kingdom; and

Cumhuriyet Mah. Kavakli San St. Fulya, Cad. Hazar Sok. No.14/A Silivri, Istanbul, Turkey

Pursuant to Section 766.24 of the Export Administration Regulations, 15 CFR parts 730-774 (2017) (“EAR” or the “Regulations”),¹ I hereby grant the request of the Office of Export Enforcement (“OEE”) to modify the order that I issued on June 27, 2017, renewing the temporary denial order (“TDO”) in this matter (“June 27, 2017 TDO Renewal Order”).

¹ The Regulations, currently codified at 15 CFR parts 730-774 (2017), originally issued pursuant to the Export Administration Act of 1979. Since August 21, 2001, the Act has been in lapse and the President, through Executive Order 13222 of August 17, 2001 (3 CFR, 2001 Comp. 783 (2002)), which has been extended by successive Presidential Notices, the most recent being that of August 15, 2017 (82 FR 39,005 (August 16, 2017)), has continued the Regulations in effect under the International Emergency Economic Powers Act (50 U.S.C. 1701, et seq.) (2012).

OEE has requested that the following parties be removed from the TDO:

Ali Eslamian, 33 Cavendish Square, 4th Floor, London, W1G 0PW, United Kingdom; and

2 Bentinck Close, Prince Albert Road, St. Johns Wood, London NW8 7RY, United Kingdom

Equipco (UK) Ltd., 2 Bentinck Close, Prince Albert Road, St. Johns Wood, London, NW8 7RY, United Kingdom

Skyco (UK) Ltd., 33 Cavendish Square, 4th Floor, London, W1G 0PW, United Kingdom

I. Pertinent Procedural History ²

² The June 27, 2017 TDO Renewal Order includes a more detailed procedural history relating to the TDO. See 82 FR 30,823 (July 3, 2017).

On March 17, 2008, Darryl W. Jackson, the then-Assistant Secretary of Commerce for Export Enforcement (“Assistant Secretary”), signed a TDO denying Mahan Airways' export privileges for a period of 180 days on the grounds that its issuance was necessary in the public interest to prevent an imminent violation of the Regulations. The TDO was issued ex parte pursuant to Section 766.24(a), and went into effect on March 21, 2008, the date it was published in the Federal Register (“the TDO”). The TDO subsequently has been renewed in accordance with Section 766.24(d), including most recently on June 27, 2017.³ Parties have been added to or removed from the TDO at various times in renewal orders or though orders modifying or amending the TDO. As part of the August 24, 2011 TDO renewal, Ali Eslamian was added to the TDO as a related person. Equipco (UK) Ltd. and Skyco (UK) Ltd. were subsequently added to the TDO as related persons through a modification order issued and effective on April 9, 2012.

³ The June 27, 2017 Order was effective upon issuance and was published in the Federal Register on July 3, 2017 (82 FR 30,823). The TDO previously had been renewed by orders issued and effective on, respectively, September 17, 2008, March 16, 2009, September 11, 2009, March 9, 2010, September 3, 2010, February 25, 2011, August 24, 2011, February 15, 2012, August 9, 2012, February 4, 2013, July 31, 2013, January 24, 2014, July 22, 2014, January 16, 2015, July 13, 2015, January 7, 2016, July 7, 2016, December 30, 2016, and June 27, 2017. The August 24, 2011 renewal followed a modification of the TDO on July 1, 2011. The July 13, 2015 renewal followed a modification of the TDO on May 21, 2015. Each renewal or modification order also was effective upon issuance and published in the Federal Register.

On June 27, 2017, I signed a renewal order denying for an additional 180 days the export privileges of Ali Eslamian, Equipco (UK) Ltd., and Skyco (UK) Ltd., as well as Mahan Airways, Pejman Mahmood Kosarayanifard, Mahmoud Amini, Kerman Aviation, Sirjanco Trading LLC, Mahan Air General Trading LLC, Mehdi Bahrami, Al Naser Airlines, Ali Abdullah Alhay, Bahar Safwa General Trading, Sky Blue Bird Group, and Issam Shammout. See 82 FR 30,823 (July 3, 2017). On September 28, 2017, I issued an order (“the Settlement Order”) approving a settlement agreement between BIS and Ali Eslamian, Equipco (UK) Ltd., and Skyco (UK) Ltd. (“the Settlement Agreement”), which, inter alia, resolves pursuant to that Order and the Settlement Agreement an administrative charge against Ali Eslamian for acting contrary to the terms of the TDO, in violation of Section 764.2(k) of the Regulations (“the Charging Letter”). In doing so, I found that the requirements of Section 766.23 of the Regulations had been met to include Equipco (UK) Ltd. and Skyco (UK) Ltd., two companies owned and operated by Ali Eslamian, in the Settlement Order as related persons.⁴ As part of the approved Settlement Agreement, OEE agreed to request that I remove Ali Eslamian, Equipco (UK) Ltd., and Skyco (UK) Ltd from the TDO. As indicated above, OEE has made that request.

⁴ Following issuance of the Settlement Order, a copy of that Order, the Settlement Agreement, and the Charging Letter were posted on the Electronic FOIA page on BIS's Web site and can be found at https://efoia.bis.doc.gov/index.php/electronic-foia/index-of-documents/7-electronic-foia/227-export-violations. In addition to other sanctions, the Settlement Order and Settlement Agreement provide that Ali Eslamian, Equipco (UK) Ltd., and Skyco (UK) Ltd. shall be subject to a conditionally-suspended denial order for a period of four years from the date of that Order.

II. Findings

Having considered OEE's request and the record herein, I find that Ali Eslamian, Equipco (UK) Ltd., and Skyco (UK) Ltd. should be removed from the TDO. The TDO shall remain in full force and effect as to Mahan Airways, Pejman Mahmood Kosarayanifard, Mahmoud Amini, Kerman Aviation, Sirjanco Trading LLC, Mahan Air General Trading LLC, Mehdi Bahrami, Al Naser Airlines, Ali Abdullah Alhay, Bahar Safwa General Trading, Sky Blue Bird Group, and Issam Shammout.

III. Order

It is therefore ordered:

First, that MAHAN AIRWAYS, Mahan Tower, No. 21, Azadegan St., M.A. Jenah Exp. Way, Tehran, Iran; PEJMAN MAHMOOD KOSARAYANIFARD A/K/A KOSARIAN FARD, P.O. Box 52404, Dubai, United Arab Emirates; MAHMOUD AMINI, G#22 Dubai Airport Free Zone, P.O. Box 393754, Dubai, United Arab Emirates, and P.O. Box 52404, Dubai, United Arab Emirates, and Mohamed Abdulla Alqaz Building, Al Maktoum Street, Al Rigga, Dubai, United Arab Emirates; KERMAN AVIATION A/K/A GIE KERMAN AVIATION, 42 Avenue Montaigne 75008, Paris, France; SIRJANCO TRADING LLC, P.O. Box 8709, Dubai, United Arab Emirates; MAHAN AIR GENERAL TRADING LLC, 19th Floor Al Moosa Tower One, Sheik Zayed Road, Dubai 40594, United Arab Emirates; and MEHDI BAHRAMI, Mahan Airways—Istanbul Office, Cumhuriye Cad. Sibil Apt No: 101 D:6, 34374 Emadad, Sisli Istanbul, Turkey; AL NASER AIRLINES A/K/A AL-NASER AIRLINES A/K/A ALNASER AIRLINES AND AIR FREIGHT LTD., Home 46, Al-Karrada, Babil Region, District 929, St 21, Beside Al Jadirya Private Hospital, Baghdad, Iraq, and Al Amirat Street, Section 309, St. 3/H.20, Al Mansour, Baghdad, Iraq, and P.O. Box 28360, Dubai, United Arab Emirates, and P.O. Box 911399, Amman 11191, Jordan; ALI ABDULLAH ALHAY A/K/A ALI ALHAY A/K/A ALI ABDULLAH AHMED ALHAY, Home 46, Al-Karrada, Babil Region, District 929, St 21, Beside Al Jadirya Private Hospital, Baghdad, Iraq, and Anak Street, Qatif, Saudi Arabia 61177; BAHAR SAFWA GENERAL TRADING, P.O. Box 113212, Citadel Tower, Floor-5, Office #504, Business Bay, Dubai, United Arab Emirates, and P.O. Box 8709, Citadel Tower, Business Bay, Dubai, United Arab Emirates; SKY BLUE BIRD GROUP A/K/A SKY BLUE BIRD AVIATION A/K/A SKY BLUE BIRD LTD A/K/A SKY BLUE BIRD FZC, P.O. Box 16111, Ras Al Khaimah Trade Zone, United Arab Emirates; and ISSAM SHAMMOUT A/K/A MUHAMMAD ISAM MUHAMMAD ANWAR NUR SHAMMOUT A/K/A ISSAM ANWAR, Philips Building, 4th Floor, Al Fardous Street, Damascus, Syria, and Al Kolaa, Beirut, Lebanon 151515, and 17-18 Margaret Street, 4th Floor, London, W1W 8RP, United Kingdom, and Cumhuriyet Mah. Kavakli San St. Fulya, Cad. Hazar Sok. No.14/A Silivri, Istanbul, Turkey, and when acting for or on their behalf, any successors or assigns, agents, or employees (each a “Denied Person” and collectively the “Denied Persons”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the EAR, or engaging in any other activity subject to the EAR; or

C. Benefitting in any way from any transaction involving any item exported or to be exported from the United States that is subject to the EAR, or from any other activity subject to the EAR.

Second, that no person may, directly or indirectly, do any of the following:

A. Export or reexport to or on behalf of a Denied Person any item subject to the EAR;

B. Take any action that facilitates the acquisition or attempted acquisition by a Denied Person of the ownership, possession, or control of any item subject to the EAR that has been or will be exported from the United States, including financing or other support activities related to a transaction whereby a Denied Person acquires or attempts to acquire such ownership, possession or control;

C. Take any action to acquire from or to facilitate the acquisition or attempted acquisition from a Denied Person of any item subject to the EAR that has been exported from the United States;

D. Obtain from a Denied Person in the United States any item subject to the EAR with knowledge or reason to know that the item will be, or is intended to be, exported from the United States; or

E. Engage in any transaction to service any item subject to the EAR that has been or will be exported from the United States and which is owned, possessed or controlled by a Denied Person, or service any item, of whatever origin, that is owned, possessed or controlled by a Denied Person if such service involves the use of any item subject to the EAR that has been or will be exported from the United States. For purposes of this paragraph, servicing means installation, maintenance, repair, modification or testing.

Third, that, after notice and opportunity for comment as provided in section 766.23 of the EAR, any other person, firm, corporation, or business organization related to a Denied Person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Sections 766.24(e) of the EAR, Mahan Airways, Al Naser Airlines, Ali Abdullah Alhay, and/or Bahar Safwa General Trading may, at any time, appeal this Order by filing a full written statement in support of the appeal with the Office of the Administrative Law Judge, U.S. Coast Guard ALJ Docketing Center, 40 South Gay Street, Baltimore, Maryland 21202-4022. In accordance with the provisions of Sections 766.23(c)(2) and 766.24(e)(3) of the EAR, Pejman Mahmood Kosarayanifard, Mahmoud Amini, Kerman Aviation, Sirjanco Trading LLC, Mahan Air General Trading LLC, Mehdi Bahrami, Sky Blue Bird Group, and/or Issam Shammout may, at any time, appeal their inclusion as a related person by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. A renewal request may be opposed by Mahan Airways, Al Naser Airlines, Ali Abdullah Alhay, and/or Bahar Safwa General Trading as provided in Section 766.24(d), by filing a written submission with the Assistant Secretary of Commerce for Export Enforcement, which must be received not later than seven days before the expiration date of the Order.

A copy of this Order shall be provided to Mahan Airways, Al Naser Airlines, Ali Abdullah Alhay, and Bahar Safwa General Trading and each related person, and shall be published in the Federal Register.

This Order is effective immediately and shall remain in effect until December 26, 2017, unless renewed in accordance with Section 766.24(d) of the Regulations.

Dated: November 16, 2017.
Richard R. Majauskas,
Acting Assistant Secretary of Commerce for Export Enforcement.

[FR Doc. 2017-25964 Filed 12-1-17; 8:45 am]

BILLING CODE P